DEPARTMENT OF TRANSPORTATION

Federal Highway Administration

Notice of Intent To Prepare an Environmental Impact Statement in Arizona

AGENCY: Federal Highway Administration (FHWA), Department of Transportation (USDOT).

ACTION: Notice of Intent (NOI) to prepare an Environmental Impact Statement (EIS).

SUMMARY: The FHWA, on behalf of the Arizona Department of Transportation (ADOT) is issuing this Notice of Intent (NOI) to solicit comment and advise the public, agencies, Tribes, and stakeholders that an Environmental Impact Statement (EIS) will be prepared for the Sonoran Corridor (State Route 410), a new highway between Interstate 19 (I-19) and Interstate 10 (I-10) in Pima County, Arizona. FHWA, in coordination with ADOT, completed Tier 1 Final EIS and Record of Decision in October 2021 and addressed the need for additional transportation capacity and connectivity in Pima County. This Tier 2 EIS will build upon the Tier 1 EIS process.

DATES: Comments on the NOI or the NOI Supplementary Information Document must be received on or before July 18, 2025.

ADDRESSES: This NOI and the NOI Supplementary Information Document are available at the project website located at https://azdot.gov/planning/transportation-studies/sonoran-corridor-sr-410-study/sonoran-corridor-sr-410-tier-2-environmental-impact-study-and-design-concept-report. The NOI Supplementary Information Document will also be mailed upon request. All interested parties are invited to submit comments or requests for mailed documents by any of the following methods:

• Website: For access to the documents, go to the project website located at https://azdot.gov/planning/transportation-studies/sonoran-corridor-sr-410-study/sonoran-corridor-sr-410-tier-2-environmental-impact-study-and-design-concept-report. Follow the online instructions for submitting comments.

• Phone: (855) 712-8530.

• Mailing address or hand delivery or courier: ADOT Sonoran Corridor c/o WSP, 1230 West Washington Street, Tempe, Arizona, 85281.

• Project email address: info@sonorancorridor.com.

All submissions should include the agency, public, Tribe, or stakeholder name and the project identification number. All comments received will be posted without change to https://azdot.gov/planning/transportation-studies/sonoran-corridor-sr-410-study/sonoran-corridor-sr-410-tier-2-environmental-impact-study-and-design-concept-report, including any personal information provided.

FOR FURTHER INFORMATION CONTACT: Mr. Steven Olmsted, Environmental Planning Program Delivery Manager, Arizona Department of Transportation, 205 South 17th Avenue, MD EM02, Phoenix, Arizona 85007, telephone: (480) 202-6050; email: solmsted@azdot.gov. ADOT normal business hours are 8:00 a.m. to 4:30 p.m. (Mountain Standard Time).

You may also contact: Mr. Paul O'Brien, Environmental Planning Administrator, Arizona Department of Transportation, 205 S 17th Avenue, MD EM02, Phoenix, Arizona 85007; telephone: (480) 356-2893; email: POBrien@azdot.gov.

SUPPLEMENTARY INFORMATION: The environmental review, consultation, and other actions required by applicable Federal environmental laws for this project are being, or have been, carried out under ADOT's assumption of FHWA's National Environmental Policy Act responsibilities through a Memorandum of Understanding dated June 25, 2024, and executed by the FHWA and ADOT.

The EIS will be prepared in accordance with the requirements of the National Environmental Policy Act of 1969, as amended (42 U.S.C. 4321, et seq.); recent Council on Environmental Quality guidance; and other applicable Federal, State, and local laws and regulations.

The purpose of the Sonoran Corridor, as established during the Tier 1, is to improve the transportation network by affording better access to growth areas and activity centers, reduce predicted congestion and improve levels of service, and provide a system linkage between I-19 and I-10.

The proposed project is to build the Sonoran Corridor, a new high-capacity transportation corridor between I-19 and I-10. ADOT has developed three preliminary build alternatives labeled Alternative A, Alternative B, and Alternative C. Each preliminary build alternative is located within the 2,000-foot corridor established by the Tier 1 Selected Corridor Alternative. Each of the 400-foot wide preliminary alternatives consists of a new roadway ranging from 20.38 to 20.53 miles in length, extending east from I-19 south of the El Toro Road alignment to the Alvernon Way alignment, then traveling north along the Alvernon Way alignment to approximately the Old Vail Road alignment, then traveling east along the Old Vail Road alignment and ending at the I-10/Rita Road intersection. The No Build Alternative involves taking no action except routine maintenance and other presently planned and programmed projects.

Additional information on the purpose and need and alternatives, as well as maps and figures illustrating the project location, and coordination and public involvement efforts are provided in the NOI Supplementary Project Information available for review on the project website noted in the ADDRESSES section.

The Tier 2 EIS will evaluate the potential social, economic, and environmental impacts resulting from the implementation of the build alternatives and the No Build Alternative. The following resources are anticipated to be evaluated in detail during the environmental review process: Cultural and Historic Resources; Biological Resources and Wildlife Connectivity; Socioeconomics, Land Use, and Planned Development; Waters of the United States; Section 4(f); and Noise. Additionally, the EIS will also identify impacts to farmlands; recreation; topography, geology, and soils; hydrology, floodplains, and water resources; energy; Section 6(f) resources; air quality; transportation; hazardous waste sites; and visual resources.

Anticipated permits and authorizations that could be required prior to the commencement of construction include:

• U.S. Army Corps of Engineers (USACE) approvals under Section 404 of the Clean Water Act and Section 401 water quality certification;

• Arizona State Land Department (ASLD);

• Bureau of Reclamation (Reclamation) authorization of the Central Arizona Project Canal crossing;

• State Historic Preservation Officer (SHPO) consultation under Section 106 of the National Historic Preservation Act;

• U.S. Fish and Wildlife Service (USFWS) approvals under the Endangered Species Act, the Bald and Golden Eagle Protection Act, and Migratory Bird Treaty Act; and

• Natural Resources Conservation Service approval under the Farmland Protection Policy Act.

Public engagement activities for the Tier 2 EIS involved an initial public notification at the onset of the study and an online survey instrument in September 2024 to gather input on current and future transportation issues, alternative locations, interchange locations, and changes in conditions of the area. This survey also gathered feedback on the public support of the project's ability to serve the needs identified during the Tier 1 EIS. Agency coordination meetings include an Agency Early Scoping Meeting held in March 2024, Cooperating Agency meetings held between February 2025 and May 2025, a Participating Agency meeting held in March 2025, monthly project team meetings, and one-on-one coordination meetings on specific topics. The Public Involvement Plan is attached to the NOI Supplemental Information Document.

Cooperating agencies include FAA, USACE, USFWS, USEPA, AZGFD, and ASLD. Participating agencies include Federal Bureau of Prisons, Federal Emergency Management Agency, Federal Railroad Administration, National Park Service, U.S. Bureau of Indian Affairs, U.S. Bureau of Prisons, U.S. Customs and Border Protection, U.S. Air Force, Davis-Monthan Air Force Base, Western Area Power Administration, Arizona Air National Guard, Arizona Department of Corrections, Arizona Department of Environmental Quality, Arizona Department of Public Safety, Arizona Department of Water Resources, Arizona State Parks and Trails, Pima Association of Governments, Tucson Airport Authority, Pima County, Pima County Regional Flood Control District, City of South Tucson, City of Tucson, Green Valley Council, Town of Sahuarita, Tohono O'odham Nation, San Xavier District, Tohono O'odham Nation, Pascua Yaqui Tribe, Ak-Chin Indian Community, Gila River Indian Community, Salt River Pima-Maricopa Indian Community, San Carlos Apache Tribe, Tonto Apache Tribe, White Mountain Apache Tribe, Yavapai-Apache Nation. A Project Coordination Plan is attached to the NOI Supplemental Information Document.

Persons and agencies who may be interested in or affected by the proposed project are encouraged to comment on the information in this NOI and the NOI Supplementary Information Document. All comments received in response to this NOI document will be considered and any information presented herein, as appropriate. Comments must be received by July 18, 2025. Comments or questions concerning this proposed action, including the comments relative the preliminary EIS alternatives, information, and analyses, should be directed to ADOT at the addresses provided in the ADDRESSES section of this notice.

(Catalog of Federal Domestic Assistance Program Number 20.205, Highway Planning and Construction. The regulations implementing Executive Order 12372 regarding intergovernmental consultation on Federal programs and activities apply to this program.)

Issued on May 21, 2025.
Anthony N. Sarhan,
Deputy Division Administrator, Phoenix, Arizona.

[FR Doc. 2025-09516 Filed 5-27-25; 8:45 am]

BILLING CODE 4910-22-P